DEPARTMENT OF AGRICULTURE

Forest Service

Yavapai County Resource Advisory Committee

AGENCY: Forest Service, USDA.

ACTION: Notice of meeting.

SUMMARY: The Yavapai County Resource Advisory Committee (RAC) will meet in Prescott, Arizona. The committee is meeting as authorized under the Secure Rural Schools and Community Self-Determination Act (Pub. L. 110-343) and in compliance with the Federal Advisory Committee Act. The purpose of the meeting is to orientate new committee members to the Secural Rural Schools Act, roles of members, guidelines for Title II, and the Federal Advisory Committee Act.

DATES: The meeting will be held August 24, 2011; 9 a.m to 2 pm.

ADDRESSES: The meeting will be held at the Highland Center, 1375 S. Walker Road, Prescott, AZ 86303.

FOR FURTHER INFORMATION CONTACT: Debbie Maneely, RAC Coordinator, Prescott National Forest, 344 S. Cortez, Prescott, AZ 86301; (928) 443-8130 or dmaneely@fs.fed.us.

SUPPLEMENTARY INFORMATION: The meeting is open to the public. The following business will be conducted: (1) Welcome and introductions; (2) Project Discussion, Questions-Answers; (3) review and ranking of projects submitted for Round 2; (4) next meeting agenda, location, and date.

Dated: July 19, 2011.
Pete Gordon,
Acting Forest Supervisor.

[FR Doc. 2011-18814 Filed 7-25-11; 8:45 am]

BILLING CODE 3410-11-P